ENVIRONMENTAL PROTECTION AGENCY

[OPP-66289; FRL-6795-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations.

DATES: Unless a request is withdrawn by, February 22, 2002, unless indicated otherwise, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations” “Regulations and Proposed Rules,” and then look up the entry for this document under the “Federal Register—Environmental Documents.” You can also go directly to the Federal Register listing at (http://www.epa.gov/fedrgstr/).

2. In person. Contact James A. Hollins at 1921 Jefferson Davis Highway, Crystal Mall No. 2, Rm. 224, Arlington, VA, telephone number (703) 305-5761. Available from 7:30 a.m. to 4:45 p.m., Monday thru Friday, excluding legal holidays.

II. What Action is the Agency Taking?

This notice announces receipt by the Agency of applications from registrants to cancel some 45 pesticide products registered under section 3 or 24(c) of FIFRA. These registrations are listed in sequence by registration number (or company number and 24(c) number) in the following Table 1.

Table 1. — Registrations With Pending Requests for Cancellation
Registration No. | Product Name | Chemical Name
000100-00857 | Oxadixl Technical Fungicide | Oxadixyl
000100-00858 | Sandofan 31F Fungicide | Oxadixyl
000100 CA-97-0030 | Supracide 25WP Insecticide-Miticide | O,O-Dimethyl phosphorodithioate, S-ester with 4-(mercaptomethyl)-2-
000100 OR-90-0005 | D-Z-N Diazinon 50W Insecticide | O,O-Diethyl O-(2-isopropyl-6-methyl-4-pyrimidinyl) phosphorothioate
000241 OR-93-0001 | Prowl 3.3 EC Herbicide | N-(1-Ethylpropyl)-3,4-dimethyl-2,6-dinitrobenzenamine
000264 AL-90-0011 | Illoxan 3EC Herbicide | Methyl 2-(2-(2,4-dichlorophenoxy)phenoxy)propanoate
000264 AR-93-0002 | Illoxan Herbicide | Methyl 2-(2-(2,4-dichlorophenoxy)phenoxy)propanoate
000264 FL-96-0001 | Hoelon 3EC Herbicide | Methyl 2-(2-(2,4-dichlorophenoxy)phenoxy)propanoate
000264 GA-95-0009 | Hoelon 3EC Herbicide | Methyl 2-(2-(2,4-dichlorophenoxy)phenoxy)propanoate
000264 LA-98-0008 | Hoelon 3EC Herbicide | Methyl 2-(2-(2,4-dichlorophenoxy)phenoxy)propanoate
000264 MS-91-0019 | Illoxan Herbicide | Methyl 2-(2-(2,4-dichlorophenoxy)phenoxy)propanoate
000264 NC-91-0001 | Illoxan 3EC Herbicide | Methyl 2-(2-(2,4-dichlorophenoxy)phenoxy)propanoate
000264 OK-93-0003 | Illoxan Herbicide | Methyl 2-(2-(2,4-dichlorophenoxy)phenoxy)propanoate
000264 SC-90-0003 | Illoxan 3EC Herbicide | Methyl 2-(2-(2,4-dichlorophenoxy)phenoxy)propanoate
000264 TN-93-0008 | Illoxan Herbicide | Methyl 2-(2-(2,4-dichlorophenoxy)phenoxy)propanoate
000264 TX-92-0009 | Hoelon 3EC Herbicide | Methyl 2-(2-(2,4-dichlorophenoxy)phenoxy)propanoate
000352 OR-89-0009 | Dupont Asana XL Insecticide | 4-Chloro-alpha-(1-methylethyl)benzeneacetic acid, cyano(3-phenoxyphenyl)methyl
000352 OR-94-0019 | Dupont Asana XL Insecticide | 4-Chloro-alpha-(1-methylethyl)benzeneacetic acid, cyano(3-phenoxyphenyl)methyl
000352 WA-94-0034 | Dupont Asana XL Insecticide | 4-Chloro-alpha-(1-methylethyl)benzeneacetic acid, cyano(3-phenoxyphenyl)methyl
000352 WA-95-0001 | Dupont Asana XL Insecticide | 4-Chloro-alpha-(1-methylethyl)benzeneacetic acid, cyano(3-phenoxyphenyl)methyl
000400-00406 | Terraclor Super X Granular | Pentachloronitrobenzene
|  | 5-Ethoxy-3-(trichloromethyl)-1,2,4-thiadiazole
000400-00419 | Terrazole 5% Granular Fungicide | 5-Ethoxy-3-(trichloromethyl)-1,2,4-thiadiazole
000400 NE-99-0005 | Dimilin 2l | 1-(4-Chlorophenyl)-3-(2,6-difluorobenzoyl)urea
000499-00460 | Pro-Control Roach Bait | 1-Octanesulfonamide, N-ethyl-1,1,2,2,3,3,4,4,5,5,6,6,7,7,8,8,8-heptadecafluoro-
000707 WA-00-0020 | Nova 40W Agricultural Fungicide In Water Soluble Pouche | alpha-Butyl-alpha-(4-chlorophenyl)-1H-1,2,4-triazole-1-propanenitrile
001706-00162 | Nalcon 7640-M-Papermill Slimicide | Bis(trichloromethyl) sulfone
|  | 1-(Alkyl* amino)-3-aminopropane monoacetate *(as in fatty acids of coconut oil)
002382-00094 | Protection 150 Reflecting Flea and Tick Collar for Cats | O,O-Diethyl O-(2-isopropyl-6-methyl-4-pyrimidinyl) phosphorothioate
002382-00095 | Protection Plus Flea and Tick Collar for Cats | O,O-Diethyl O-(2-isopropyl-6-methyl-4-pyrimidinyl) phosphorothioate
002382-00096 | Protection 150 Reflecting Flea and Tick Collar for Dogs | O,O-Diethyl O-(2-isopropyl-6-methyl-4-pyrimidinyl) phosphorothioate
002382-00097 | Protection Plus 150 Flea and Tick Collar for Dogs | O,O-Diethyl O-(2-isopropyl-6-methyl-4-pyrimidinyl) phosphorothioate
002382-00098 | Protection 150 Flea and Tick Collar for Cats | O,O-Diethyl O-(2-isopropyl-6-methyl-4-pyrimidinyl) phosphorothioate
002382-00099 | Protection 150 Flea and Tick Collar for Dogs | O,O-Diethyl O-(2-isopropyl-6-methyl-4-pyrimidinyl) phosphorothioate
002382-00105 | Protection 300 Flea and Tick Collar for Dogs | O,O-Diethyl O-(2-isopropyl-6-methyl-4-pyrimidinyl) phosphorothioate
005481 ID-95-0016 | Dibrom 8 Emulsive | 1,2-Dibromo-2,2-dichloroethyl dimethyl phosphate
006911-00005 | Nu-Mrk Nu-Method Ant & Roach Killer | O,O-Diethyl O-(2-isopropyl-6-methyl-4-pyrimidinyl) phosphorothioate
|  | (Butylcarbityl)(6-propylpiperonyl) ether 80% and related compounds 20%
|  | Pyrethrins
007501-00097 | Anchor Flowable Fungicide | Oxadixyl
007969-00115 | MCPP Acid Technical 95% | 2-(2-Methyl-4-chlorophenoxy)propionic acid
007969-00123 | MCPP (Technical Grade) | 2-(2-Methyl-4-chlorophenoxy)propionic acid
019713-00126 | Drexel Captan Plus Molybdenum | cis-N-Trichloromethylthio-4-cyclohexene-1,2-dicarboximide
028293-00009 | Unicorn Dairy and Food Plant Aerosol | (Butylcarbityl)(6-propylpiperonyl) ether 80% and related compounds 20%
|  | Pyrethrins
028293-00011 | Unicorn Liquid Pet Spray | N-Octyl bicycloheptene dicarboximide
|  | (Butylcarbityl)(6-propylpiperonyl) ether 80% and related compounds 20%
|  | Pyrethrins
028293-00019 | Unicorn Fly Repellent for Horses & Ponies | Butoxypolypropylene glycol
|  | N-Octyl bicycloheptene dicarboximide
|  | (Butylcarbityl)(6-propylpiperonyl) ether 80% and related compounds 20%
|  | Pyrethrins
062719-00126 | Rubigan 50W Turf & Ornamental | alpha-(2-Chlorophenyl)-alpha-(4-chlorophenyl)-5-pyridinemethanol
062719-00249 | Rubigan 50 WSP | alpha-(2-Chlorophenyl)-alpha-(4-chlorophenyl)-5-pyridinemethanol
062719 OR-94-0032 | Lorsban 4E-Hf | O,O-Diethyl O-(3,5,6-trichloro-2-pyridyl) phosphorothioate

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number.

Table 2. — Registrants Requesting Voluntary Cancellation
EPA Company No. | Company Name and Address
000100 | Syngenta Crop Protection, Inc., Box 18300, Greensboro, NC 27419.
000241 | BASF Corp., Box 400, Princeton, NJ 08543.
000264 | Aventis Cropscience USA LP, 2 T.W. Alexander Drive, Box 12014, Research Triangle Park, NC 27709.
000352 | E. I. Du Pont De Nemours & Company, Dupont Crop Protection, Stine-Haskell Research Center S300 Box 30, Newark, DE 19714.
000400 | Uniroyal Chemical Co Inc., A Subsidiary of Crompton Corp., 74 Amity Rd, Bethany, CT 06524.
000499 | Whitmire Micro-Gen Research Laboratories Inc., 3568 Tree Ct., Industrial Blvd, St Louis, MO 63122.
000707 | Rohm & Haas Co., Attn: Robert H. Larkin, 100 Independence Mall W., Philadelphia, PA 19106.
001706 | Ondeo Nalco Co., Ondeo Nalco Center, Naperville,, IL 60563.
002382 | Virbac AH, Inc., Box 162059, Fort Worth, TX 76161.
005481 | AMVAC Chemical Corp., Attn: Jon C. Wood, 4695 Macarthur Ct., Suite 1250, Newport Beach, CA 92660.
006911 | Nu Method Pest Control Products, Inc., 8719 Linwood Ave, Detroit, MI 48206.
007501 | Gustafson LLC, 1400 Preston Rd., Suite 400, Planos, TX 75093.
007969 | BASF Corp., Agricultural Products, Box 13528, Research Triangle Park, NC 27709.
019713 | Drexel Chemical Co, 1700 Channel Ave., Box 13327, Memphis, TN 38113.
028293 | Unicorn Laboratories, 12385 Automobile Blvd., Clearwater, FL 33762.
062719 | Dow Agrosciences LLC, 9330 Zionsville Rd., 308/2e225, Indianapolis, IN 46268.
Note: EPA company number 000499, 002382 and 006911 have requested a 30-day comment period for registrations listed.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Loss of Active Ingredients

Unless the requests for cancellations are withdrawn, one pesticide active ingredient will no longer appear in any registered products. Those who are concerned about the potential loss of this active ingredient for pesticidal use are encouraged to work directly with the registrant(s) to explore the possibility of their withdrawing the request for cancellation. The active ingredient is listed in the following Table 3, with the EPA company and CAS number.

Table 3. — Active Ingredient Disappearing as a Result of Registrants' Request to Cancel
CAS No. | Chemical Name | EPA Company No.
77732-89-3 | Oxadixyl | 000100
|  | 007501

V. Procedures for Withdrawal of Request

Registrants who choose to withdraw a request for cancellation must submit such withdrawal in writing to James A. Hollins, at the address given above, postmarked before February 22, 2002, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1-year after the date the cancellation request was received by the Agency. This policy is in accordance with the Agency's statement of policy as prescribed in Federal Register of June 26, 1991 (56 FR 29362) (FRL-3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Agricultural commodities, Pesticides and pests.

Dated: August 6, 2001.
Richard D. Schmitt,
Associate Director, Information Resources and Services Division, Office of Pesticide Programs.

[FR Doc. 01-21047 Filed 8-21-01; 8:45 a.m.]

BILLING CODE 6560-50-S